DEPARTMENT OF COMMERCE

International Trade Administration

[C-570-041]

Truck and Bus Tires From the People's Republic of China: Final Results of the Countervailing Duty Administrative Review; 2020

AGENCY: Enforcement and Compliance, International Trade Administration, Department of Commerce.

SUMMARY: The U.S. Department of Commerce (Commerce) determines that certain exporters/producers of truck and bus tires from the People's Republic of China (China) received countervailable subsidies during the period of review (POR) January 1, 2020, through December 31, 2020. Additionally, we are rescinding the review for eight companies with no shipments of subject merchandise to the United States during the POR.

DATES: Applicable June 30, 2022.

FOR FURTHER INFORMATION CONTACT: Brontee Jeffries or Theodore Pearson, AD/CVD Operations, Enforcement and Compliance, International Trade Administration, U.S. Department of Commerce, 1401 Constitution Avenue NW, Washington, DC 20230; telephone: (202) 482-4656 or (202) 482-2631, respectively.

Background

Commerce published the Preliminary Results of this administrative review on March 8, 2022,¹ and invited comments from interested parties. For a complete description of the events that occurred since the Preliminary Results, see the Issues and Decision Memorandum.²

¹ See Truck and Bus Tires from the People's Republic of China: Preliminary Results of Countervailing Duty Administrative Review, Rescission of Review in Part, and Intent to Rescind in Part; 2020, 87 FR 12929 (March 8, 2022) (Preliminary Results).

² See Memorandum, “Issues and Decision Memorandum for the Final Results of the Countervailing Duty Administrative Review of Truck and Bus Tires from the People's Republic of China,” concurrently with, and hereby adopted by, this notice.

Scope of the Order

The products covered by the Order are truck and bus tires. For a complete description of the scope, see the Issues and Decision Memorandum.

Analysis of Comments Received

All issues raised by the interested parties in their case and rebuttal briefs are addressed in the Issues and Decision Memorandum. A list of these issues is provided in Appendix I to this notice. The Issues and Decision Memorandum is a public document and is on file electronically via Enforcement and Compliance's Antidumping and CVD Centralized Electronic Service System (ACCESS). ACCESS is available to registered users at https://access.trade.gov. In addition, a complete version of the Issues and Decision Memorandum can be accessed directly at https://access.trade.gov/public/FRNoticesListLayout.aspx.

Changes Since the Preliminary Results

Based on comments received from interested parties, we revised the calculation of the net countervailable subsidy rate for Ge Rui Da Rubber Co., Ltd. (GRT). We made no changes for Prinx Chengshan (Shandong) Tire Co., Ltd. For a discussion of the issues, see the Issues and Decision Memorandum.

Methodology

Commerce conducted this administrative review in accordance with section 751(a)(1)(A) of the Tariff Act of 1930, as amended (the Act). For each of the subsidy programs found countervailable, we find that there is a subsidy, i.e., a government-provided financial contribution that gives rise to a benefit to the recipient, and that the subsidy is specific.³ For a full description of the methodology underlying all of Commerce's conclusions, including our reliance, in part, on adverse facts available pursuant to sections 776(a) and (b) of the Act, see the Issues and Decision Memorandum.

³ See sections 771(5)(B) and (D) of the Act regarding financial contribution; section 771(5)(E) of the Act regarding benefit; and section 771(5A) of the Act regarding specificity.

Partial Rescission of Administrative Review

It is Commerce's practice to rescind an administrative review of a countervailing duty order, pursuant to 19 CFR 351.213(d)(3), when there are no reviewable entries of subject merchandise during the POR for which liquidation is suspended.⁴ Normally, upon completion of an administrative review, the suspended entries are liquidated at the countervailing duty assessment rate calculated for the review period.⁵ Therefore, for an administrative review of a company to be conducted, there must be a reviewable, suspended entry that Commerce can instruct U.S. Customs and Border Protection (CBP) to liquidate at the countervailing duty assessment rate calculated for the review period.⁶

⁴ See, e.g., Lightweight Thermal Paper from the People's Republic of China: Notice of Rescission of Countervailing Duty Administrative Review; 2015, 82 FR 14349 (March 20, 2017); see also Circular Welded Carbon Quality Steel Pipe from the People's Republic of China: Rescission of Countervailing Duty Administrative Review; 2017, 84 FR 14650 (April 11, 2019).

⁵ See 19 CFR 351.212(b)(2).

⁶ See 19 CFR 351.213(d)(3).

According to the CBP import data, eight companies subject to this review did not have reviewable entries of subject merchandise during the POR for which liquidation is suspended.⁷ Further, in response to the Preliminary Results, no party submitted information to contradict the information on the record. Therefore, because there is no evidence on the record of this segment of the proceeding to indicate that these companies had entries, exports, or sales of subject merchandise to the United States during the POR, we are rescinding the administrative review with respect to these companies, consistent with 19 CFR 351.213(d)(3).

⁷ The eight companies are: Chongqing Hankook Tire Co., Ltd.; Guangrao Kaichi Trading Co., Ltd.; Qingdao Fullrun Tyre Corp. Ltd.; Qingdao Honghuasheng Trade Co., Ltd.; Qingdao Kapsen Trade Co., Ltd.; Qingdao Sunfulcess Tyre Co., Ltd.; Shandong Habilead Rubber Co., Ltd.; and Shandong Qilun Rubber Co., Ltd.

Non-Selected Companies' Rate

We made no changes to the methodology for determining a rate for companies not selected for individual examination from the Preliminary Results. However, due to changes in calculations for GRT, the non-selected rate changed for each of the eight non-selected companies for which a review was requested and not rescinded, and which were not selected as mandatory respondents. For these companies, we are applying an ad valorem subsidy rate of 16.85 percent.

Final Results of the Administrative Review

We find the following net countervailable subsidy rates for the POR January 1, 2020, through December 31, 2020:

⁸ Cross-owned affiliates are Chengshan Group Co., Ltd.; Shanghai Chengzhan Information and Technology Center; Prinx Chengshan (Qingdao) Industrial Research & Design Co., Ltd.; and Shandong Prinx Chengshan Tire Technology Research Co., Ltd.

⁹ Cross-owned affiliates are Cooper Tire (China) Investment Co. Ltd.; Cooper Tire Asia-Pacific (Shanghai) Trading Co., Ltd.; Cooper (Kunshan) Tire Co., Ltd.; and Qingdao Yiyuan Investment Co., Ltd.

Producer/exporter | Subsidy rate (percent ad valorem)
Prinx Chengshan (Shandong) Tire Co., Ltd ⁸ | 17.85
Qingdao Ge Rui Da Rubber Co., Ltd ⁹ | 16.76
Review-Specific Average Rate Applicable to the Following Companies
Jiangsu General Science Technology Co., Ltd | 16.85
Jiangsu Hankook Tire Co., Ltd | 16.85
Qingdao Awesome International Trade Co., Ltd | 16.85
Qingdao Doublestar Tire Industrial Co., Ltd | 16.85
Shandong Haohua Tire Co., Ltd | 16.85
Shandong Huasheng Rubber Co., Ltd | 16.85
Shandong Kaixuan Rubber Co., Ltd | 16.85
Triangle Tyre Co., Ltd | 16.85

Disclosure

We intend to disclose calculations and analysis performed for these final results of review within five days after the date of publication of this notice in the Federal Register in accordance with 19 CFR 351.224(b).

Assessment Requirements

In accordance with section 751(a)(2)(C) of the Act and 19 CFR 351.212(b)(2), Commerce shall determine, and CBP shall assess, countervailing duties on all appropriate entries covered by this review. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

With respect to the companies for which this administrative review is rescinded, countervailing duties shall be assessed at rates equal to the cash deposit rate required at the time of entry, or withdrawal from warehouse, for consumption, during the period January 1, 2020, through December 31, 2020, in accordance with 19 CFR 351.212(c)(1)(i).

Cash Deposit Requirements

In accordance with section 751(a)(1) of the Act, we also intend to instruct CBP to collect cash deposits of estimated countervailing duties in the amounts shown above for the above-listed companies with regard to shipments of subject merchandise entered, or withdrawn from warehouse, for consumption on or after the date of publication of these final results of review. For all non-reviewed firms, CBP will continue to collect cash deposits of estimated countervailing duties at the all-others rate or the most recent company-specific rate applicable to the company, as appropriate. These cash deposit requirements, when imposed, shall remain in effect until further notice.

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

The final results are issued and published in accordance with sections 751(a)(1) and 777(i)(1) of the Act, and 19 CFR 351.213(d)(4) and 19 CFR 351.221(b)(5).

Dated: June 24, 2022.
Lisa W. Wang,
Assistant Secretary for Enforcement and Compliance.

Appendix

List of Topics Discussed in the Issues and Decision Memorandum

I. Summary

II. Background

III. Scope of the Order

IV. Rescission of Administrative Review, In Part

V. Non-Selected Rate

VI. Subsidies Valuation

VII. Use of Facts Otherwise Available and Application of Adverse Inferences

VIII. Analysis of Programs

IX. Analysis of Comments

Comment 1: Whether the Provision of Inputs for Less Than Adequate Remuneration (LTAR) Constitutes a Financial Contribution

Comment 2: Whether the Export Buyer's Credit (EBC) Program Is Countervailable

Comment 3: Whether Commerce Appropriately Found That the Provision of Land Use Rights to Qingdao Ge Rui Da Rubber Co., Ltd. (GRT) Constitutes a Financial Contribution

Comment 4: Whether Cooper Tire (China) Investment Co. Ltd. (CTIC) Is Creditworthy

Comment 5: Whether Commerce Should Alter the Benchmark for Ocean Freight

Comment 6: Whether the Benchmark for Electricity Includes Value Added Tax (VAT)

Comment 7: Whether Commerce Should Alter the Benchmarks for Synthetic Rubber and Butadiene

Comment 8: Whether Commerce Should Correct the Calculations of the Economic Development for CTIC Program

Comment 9: Whether Commerce Should Correct Calculations for the Provision of Land-Use Rights

X. Recommendation

[FR Doc. 2022-14024 Filed 6-29-22; 8:45 am]

BILLING CODE 3510-DS-P